Title 3—

The President

Memorandum of October 9, 2020

Delegation of Authority Under 15 U.S.C. 634c(b)(3)(B)

Memorandum for the United States Trade Representative

By the authority vested in me as President by the Constitution and the laws of the United States of America, including section 301 of title 3, United States Code, I hereby delegate to the United States Trade Representative the authority vested in the President by section 634c(b)(3)(B) of title 15, United States Code.

You are authorized and directed to publish this memorandum in the Federal Register.

THE WHITE HOUSE,

Washington, October 9, 2020

[FR Doc. 2020-23026

Filed 10-14-20; 11:15 am]

Billing code 3290-F7-P